DEPARTMENT OF VETERANS AFFAIRS

Public Availability of the Department of Veterans Affairs Fiscal Year (FY) 2011 Service Contract Inventory Analysis Report and FY 2012 Service Contract Inventory

AGENCY: Department of Veterans Affairs.

ACTION: Notice.

SUMMARY: In accordance with Section 743 of Division C of the Consolidated Appropriations Act of 2010 (Pub. L. 111-117), Department of Veterans Affairs (VA) is publishing this notice to advise the public of the availability of the FY 2011 Service Contract Inventory Analysis Report and FY 2012 Service Contract Inventory. The FY 2011 analysis report discusses the methodology, analysis, and special interest functions studied from the FY 2011 inventory, as well actions, planned and taken, to address any identified weaknesses or challenges. The FY 2012 inventory provides information on VA service contract actions over $25,000. The inventory information is organized by function to show how contracted resources are distributed throughout the agency. The report and inventory were developed in accordance with guidance issued on November 5, 2010, and updated on December 19, 2011, by the Office of Management and Budget's Office of Federal Procurement Policy (OFPP). OFPP's guidance is available at: http://www.whitehouse.gov/omb/procurement-service-contract-inventories. VA posted the report, inventory, and a summary of the inventory on the VA Web site at: http://www.va.gov/oal/business/pps/scaInventory.asp.

FOR FURTHER INFORMATION CONTACT: Marilyn Harris, Director of Procurement Policy and Warrant Management Service, Department of Veterans Affairs, 810 Vermont Avenue NW., Washington, DC 20420. Questions regarding the service contract inventory should be directed to Marilyn Harris at (202) 461-6918, or Marilyn.Harris2@va.gov.

Approved: February 14, 2013.
John R. Gingrich,
Chief of Staff, Department of Veterans Affairs.

[FR Doc. 2013-04117 Filed 2-21-13; 8:45 am]

BILLING CODE 8320-01-P